DEPARTMENT OF ENERGY

Federal Energy Regulatory Commission

[Docket No. RP03-339-000]

Southern Star Central Gas Pipeline, Inc.; Notice of Tariff Filing

April 16, 2003.

Take notice that on April 11, 2003 Southern Star Central Gas Pipeline, Inc. (Southern Star Central) tendered for filing as part of its FERC Gas Tariff, Original Volume No. 1, First Revised Sheet No. 214 to become effective May 15, 2003.

Southern Star Central states that the purpose of this filing is to apply right-of-first-refusal provisions to maximum rate service agreements and to remove the five-year term matching cap from the right-of-first-refusal provisions of the Southern Star Central Gas Pipeline, LLC Tariff consistent with the Commission's Order on Remand in Docket No. RM98-10-011.

Southern Star Central further states that copies of the transmittal letter and appendices are being mailed to Southern Star's jurisdictional customers and interested state commissions.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 23, 2003.

Magalie R. Salas,
Secretary.

[FR Doc. 03-9903 Filed 4-21-03; 8:45 am]

BILLING CODE 6717-01-P